DEPARTMENT OF TRANSPORTATION

Federal Highway Administration

[Docket No. FHWA-2016-0002]

RIN 2125-AF70

Tribal Transportation Self-Governance Program; Negotiated Rulemaking Meetings

AGENCY: Federal Highway Administration, DOT.

ACTION: Notice of meetings.

SUMMARY: This document announces meetings four and five of the Tribal Transportation Self-Governance Program (TTSPG) Negotiated Rulemaking Committee.

Dates and Addresses: All meetings are scheduled to take place from 8:00 a.m. until 5 p.m. on the following dates and locations:

—Meeting 4—November 15-17, 2016, Embassy Suites Minneapolis Airport, 7901 34th Ave South, Bloomington, MN 55425

—Meeting 5—December 6-8, 2016, Wind Creek Atmore, 303 Poarch Rd., Atmore, AL 36502

FOR FURTHER INFORMATION CONTACT: Robert W. Sparrow, Designated Federal Official, 1200 New Jersey Avenue SE., Washington, DC 20590. Telephone: (202) 366-9483 or at robert.sparrow@dot.gov. Vivian Philbin, Assistant Chief Counsel, 12300 West Dakota Avenue, Lakewood, CO 80228. Telephone: (720) 963-3445 or at vivian.philbin@dot.gov. Additional information may be posted on the FHWA Tribal Transportation Program Web site at https://flh.fhwa.dot.gov/programs/ttp/ as it comes available.

SUPPLEMENTARY INFORMATION:

Meeting Participation

These meetings will be open to the public. Time has been set aside during each day of the meetings for members of the public to contribute to the discussion and provide oral comments.

Submitting Written Comments

Members of the public may submit written comments on the topics to be considered during the meetings no less than 2 business days before each of the above scheduled meetings, to Federal Docket Management System (FDMS) Docket Number FHWA-2016-0002. If you submit a comment, please include the docket number for this notice (FHWA-2016-0002). You may submit your comments and material online or by fax, mail, or hand delivery, but please use only one of these means. The FHWA recommends that you include your name and a mailing address, an email address, or a phone number in the body of your document so that FHWA can contact you if there are questions regarding your submission.

To submit your comment online, go to http://www.regulations.gov, put the docket number, FHWA-2016-0002, in the keyword box, and click “Search.” When the new screen appears, click on the “Comment Now!” button and type your comment into the text box on the following screen. Choose whether you are submitting your comment as an individual or on behalf of a third party and then submit.

If you submit your comments by mail or hand delivery, submit them in an unbound format, no larger than 8 1/2 by 11 inches, suitable for copying and electronic filing.

Viewing Comments and Documents

To view comments, as well as any documents mentioned in this preamble as being available in the docket, go to http://www.regulations.gov. Insert the docket number, FHWA-2016-0002, in the keyword box, and click “Search.” Next, click the “Open Docket Folder” button and choose the document to review. If you do not have access to the Internet, you may view the docket online by visiting the Docket Management Facility in Room W12-140 on the ground floor of the DOT West Building, 1200 New Jersey Avenue SE., Washington, DC 20590, between 9 a.m. and 5 p.m., E.T., Monday through Friday, except Federal holidays.

Privacy Act

In accordance with 5 U.S.C. 553(c), DOT solicits comments from the public to better inform its rulemaking process. The DOT posts these comments, without edit, including any personal information the commenter provides, to www.regulations.gov, as described in the system of records notice (DOT/ALL-14 FDMS), which can be reviewed at www.dot.gov/privacy.

Future Committee Meetings and Rulemaking Calendar

Decisions with respect to future meeting dates and locations will be made at each meeting and from time to time thereafter. Notices of all future meetings will be shown on the FHWA TTSGP Web site at https://flh.fhwa.dot.gov/programs/ttp/ttsgp/ at least 15 calendar days prior to each meeting.

Issued on: October 31, 2016.
Gregory G. Nadeau,
Administrator, Federal Highway Administration.

[FR Doc. 2016-26918 Filed 11-7-16; 8:45 am]

BILLING CODE 4910-22-P